DEPARTMENT OF THE INTERIOR

Fish and Wildlife Service

[FWS-R2-ES-2013-N281; FXES11130200000-145-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. The Act and the National Environmental Policy Act also require that we invite public comment before issuing these permits.

DATES: To ensure consideration, written comments must be received on or before February 20, 2014.

ADDRESSES: Marty Tuegel, Section 10 Coordinator, by U.S. mail at Division of Endangered Species, U.S. Fish and Wildlife Service, P.O. Box 1306, Room 6034, Albuquerque, NM at (505) 248-6920. Please refer to the respective permit number for each application when submitting comments.

FOR FURTHER INFORMATION CONTACT: Susan Jacobsen, Chief, Endangered Species Division, P.O. Box 1306, Albuquerque, NM 87103; (505) 248-6651.

SUPPLEMENTARY INFORMATION:

Public Availability of Comments

The Act (16 U.S.C. 1531 et seq.) prohibits activities with endangered and threatened species unless a Federal permit allows such activities. Along with our implementing regulations in the Code of Federal Regulations (CFR) at 50 CFR part 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies, and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-082492

Applicant: Charles Hathcock, Los Alamos, New Mexico.

Applicant requests an amendment to a current permit for research and recovery purposes to conduct presence/absence surveys of Jemez Mountains salamander (Plethodon neomexicanus) within New Mexico.

Permit TE-798920

Applicant: City of Austin-Balcones Canyonlands Preserve, Austin, Texas.

Applicant requests a renewal to a current permit for research and recovery purposes to conduct presence/absence surveys of the following species in Texas:

• Bee Creek Cave harvestman (Texella reddelli)

• Black-capped vireo (Vireo atricapilla)

• Bone Cave harvestman (Texella reyesi)

• Braken Bat Cave meshweaver (Cicurina venii)

• Coffin Cave mold beetle (Batrisodes texanus)

• Cokendolpher Cave harvestman (Texella cokendolpheri)

• Golden-cheeked warbler (Dendroica chrysoparia)

• Government Canyon Bat Cave meshweaver (Cicurina vespera)

• Government Canyon Bat Cave spider (Neoleptoneta microps)

• Ground beetle (Rhadine exilis)

• Ground beetle (Rhadine infernalis)

• Helotes mold beetle (Batrisodes venyivi)

• Kretschmarr Cave mold beetle (Texamaurops reddelli)

• Madla Cave meshweaver (Cicurina madla)

• Robber Baron Cave meshweaver (Cicurina baronia)

• Tooth Cave ground beetle (Rhadine persephone)

• Tooth Cave pseudoscorpion (Tartarocreagris texana)

• Tooth Cave spider (Neoleptoneta (Leptoneta) myopica)

Permit TE-233289

Applicant: Dante Fenolio, San Antonio, Texas.

Applicant requests an amendment to a current permit for research and recovery purposes to conduct presence/absence surveys for Ozark cavefish (Amblyopsis rosae) within Oklahoma.

Permit TE-22545B

Applicant: Michelle Hanington, Hesperus, Colorado.

Applicant requests an amendment to a current permit for research and recovery purposes to conduct presence/absence surveys of southwestern willow flycatcher (Empidonax traillii extimus) within New Mexico, Arizona, Colorado, and Utah.

Permit TE-230274

Applicant: David Keller, Los Alamos, New Mexico.

Applicant requests a renewal to an expired permit for research and recovery purposes to conduct presence/absence surveys of Jemez Mountain salamanders (Plethodon neomexicanus) within New Mexico.

Permit TE-023643

Applicant: U.S. Army, III Corps and Fort Hood, Fort Hood, Texas.

Applicant requests an amendment to a current permit for research and recovery purposes to collect blood from 250-350 adult and hatch-year black-capped vireos (Vireo atricapilla) as part of a genetic study within Texas.

Permit TE-23162B

Applicant: Eric Herman, Phoenix, Arizona.

Applicant requests a new permit for research and recovery purposes to conduct presence/absence surveys of southwestern willow flycatcher (Empinodax trailli extimus) within Arizona.

Permit TE-022190

Applicant: Arizona-Sonora Desert Museum. Tucson, Arizona.

Applicant requests an amendment to a current permit for research and recovery purposes to conduct husbandry and holding of the following species within the museum in Arizona:

• Acuna cactus (Echinomastus erectocentrus var. acunensis)

• Humpback chub (Gila cypha)

• Loach minnow (Tiaroga cobitis)

• Spikedace (Meda fulgida)

Permit TE-20166A

Applicant: Trinity Bey, Boerne, Texas.

Applicant requests a renewal to a current permit for research and recovery purposes to conduct presence/absence surveys of golden-cheeked warbler (Dendroica chrysoparia) within Texas.

Permit TE-4343941

Applicant: James Collins, Tempe, Arizona.

Applicant requests a renewal to a current permit for research and recovery purposes to conduct presence/absence surveys of Sonoran tiger salamander (Ambystoma tigrinum stebbinsi) within Texas.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: December 24, 2013.
Dana Roth,
Acting Regional Director, Southwest Region.

[FR Doc. 2014-01005 Filed 1-17-14; 8:45 am]

BILLING CODE 4310-55-P